DEPARTMENT OF ENERGY

Federal Energy Regulatory Commission

[Docket No. PR05-6-000]

Magic Valley Pipeline, L.P.; Notice of Petition for Rate Approval

January 7, 2005.

Take notice that on December 27, 2004, Magic Valley Pipeline, L.P. (Magic Valley) filed a petition for rate approval pursuant to section 284.123(b)(2) of the Commission's Regulations. Magic Valley requests the Commission to approve a maximum monthly reservation charge of $1.0175 per Dth for firm transportation service, and a maximum rate of $0.0335 per Dth for interruptible transportation service under section 311 of the Natural Gas Policy Act.

Any person desiring to participate in this rate proceeding must file a motion to intervene or protest with the Federal Energy Regulatory Commission, 888 First Street, NE., Washington DC 20426, in accordance with Sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene.

This petition for rate approval is available for review at the Commission in the Public Reference Room or may be viewed on the Commission's Web site at http://www.ferc.gov using the “eLibrary” link. Enter the docket number excluding the last three digits in the docket number field to access the document. For assistance, with any FERC Online service, please e-mail FERCOnlineSupport@ferc.gov, or call (866) 208-3676 (toll free) or for TTY, (202) 502-8659. Comments, protests and interventions may be filed electronically via the Internet in lieu of paper. The Commission strongly encourages electronic filings. See, 18 CFR 385.2001(1)(iii) and the instructions on the Commission's Web site under the “e-Filing” link.

Intervention and Protest Date: January 28, 2005.

Magalie R. Salas,
Secretary.

[FR Doc. E5-141 Filed 1-13-05; 8:45 am]

BILLING CODE 6717-01-P